NUCLEAR REGULATORY COMMISSION

[NRC-2009-0495; Docket No. 50-005]

Penn State Breazeale Reactor; Notice of Issuance of Renewed Facility Operating License No. R-2

The U.S. Nuclear Regulatory Commission (NRC) has issued renewed Facility Operating License No. R-2, held by the Pennsylvania State University (the licensee), which authorizes continued operation of the Penn State Breazeale Reactor (PSBR), located in University Park, Centre County, Pennsylvania. The PSBR is a pool-type, light-water-moderated-and-cooled research reactor licensed to operate at a steady-state power level of 1 megawatt thermal power and pulse mode operation with a peak pulse power of approximately 2,000 megawatts. Renewed Facility Operating License No. R-2 will expire at midnight 20 years from its date of issuance.

The renewed license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed license. The agency afforded an opportunity for hearing in the Notice of Opportunity for Hearing published in the Federal Register on June 8, 2009, at 74 FR 27188. The NRC received no request for a hearing or petition for leave to intervene following the notice.

The NRC staff prepared a safety evaluation report for the renewal of Facility License No. R-2 and concluded, based on that evaluation, that the licensee can continue to operate the facility without endangering the health and safety of the public. The NRC staff also prepared an Environmental Assessment and Finding of No Significant Impact for license renewal, noticed in the Federal Register on November 12, 2009, at 74 FR 58319, as corrected on November 20, 2009, at 74 FR 60301, and concluded that renewal of the license will not have a significant impact on the quality of the human environment.

For details with respect to the application for renewal, see the licensee's letter dated December 6, 2005 (ADAMS Accession No. ML091250487), as supplemented on October 31, 2008 (ADAMS Accession No. ML092650603), and April 2 (ADAMS Accession No. ML093030395), June 11 (ADAMS Accession No. ML092030312), September 1 (ADAMS Accession No. ML092580215), and October 21, 2009 (ADAMS Accession No. ML092990409). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209 or 301-415-4737, or send an e-mail to pdr@nrc.gov.

Dated at Rockville, Maryland, this 20th day of November, 2009.
For the Nuclear Regulatory Commission.
Kathryn M. Brock,
Chief, Research and Test Reactors Branch A, Division of Policy and Rulemaking, Office of Nuclear Reactor Regulation.

[FR Doc. E9-28511 Filed 11-27-09; 8:45 am]

BILLING CODE 7590-01-P